NUCLEAR REGULATORY COMMISSION

[Docket No. 50-390]

Tennessee Valley Authority; Notice of Withdrawal of Application for Amendment to Facility Operating License

The U.S. Nuclear Regulatory Commission (the Commission) has granted the request of Tennessee Valley Authority (the licensee) to withdraw its March 10, 2004, application for proposed amendment to Facility Operating License No. NPF-90 for the Watts Bar Nuclear Plant, Unit 1, located in Rhea County, Tennessee.

The proposed amendment would have revised the allowable value as shown in Technical Specification table 3.3.8-1, “Auxilary Building Gas Treatment System (ABGTS) Actuation Instrumentation,” for the Spent Fuel Pool radiation monitors.

The Commission had previously issued a Notice of Consideration of Issuance of Amendment published in the Federal Register on March 30, 2004 (69 FR 16624). However, by letter dated September 24, 2004, the licensee withdrew the proposed change.

For further details with respect to this action, see the application for amendment dated March 10, 2004, and the licensee's letter dated September 24, 2004, which withdrew the application for license amendment. Documents may be examined, and/or copied for a fee, at the NRC's Public Document Room (PDR), located at One White Flint North, Public File Area O-1F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated in Rockville, Maryland, this 14th day of October 2004.
For the Nuclear Regulatory Commission.
Robert J. Pascarelli,
Project Manager, Section 2, Project Directorate II, Division of Licensing Project Management, Office of Nuclear Reactor Regulation.

[FR Doc. 04-24303 Filed 10-29-04; 8:45 am]

BILLING CODE 7590-01-P